DEPARTMENT OF COMMERCE

International Trade Administration

[A-570-864]

Pure Magnesium In Granular Form from the People's Republic of China: Initiation of Changed Circumstances Review

AGENCY: Import Administration, International Trade Administration, Department of Commerce.

SUMMARY: The Department of Commerce (“Department”) has received information sufficient to warrant initiation of a changed circumstances review of the antidumping duty order on pure magnesium in granular form from the People's Republic of China (“PRC”). Specifically, based upon a request filed by China Minmetals Non-ferrous Metals Co., Ltd. (“CMN”), the Department is initiating a changed circumstances review to determine whether CMN is the successor-in-interest to Minmetals Precious &Rare Minerals Import and Export/China National Nonferrous Metals Industry Trading Group Corp. (“Minmetals/CNNMIT”), a separate-rate respondent in the original investigation.

EFFECTIVE DATE: August 18, 2010.

FOR FURTHER INFORMATION CONTACT: Eve Wang, AD/CVD Operations, Office 8, Import Administration, International Trade Administration, U.S. Department of Commerce, 1401 Constitution Avenue, NW, Washington, DC 20230; telephone: 202-482-6231.

SUPPLEMENTARY INFORMATION:

Background

On November 19, 2001, the Department published in the Federal Register an antidumping duty order on pure magnesium in granular form from the PRC.¹ As part of that order, Minmetals/CNNMIT received a separate-rate of 24.67 percent.² On June 28, 2010, CMN filed a submission with the Department requesting that it conduct a changed circumstances review of the antidumping duty order on pure magnesium in granular form from the PRC to determine whether it is the successor-in-interest to Minmetals/CNNMIT.³ In its submission, CMN provided a copy of its Business License of Enterprise with Legal Person Status and Notification For Name Change issued by Minmetals/CNNMIT's supplier. In addition, CMN provided a narrative explanation describing its operations, production facilities, management, suppliers, customers, products and employees. As part of its June 28, 2010, submission, CMN requested that the Department conduct an expedited review.

¹ See Antidumping Duty Order: Pure Magnesium in Granular Form From the People's Republic of China, 66 FR 57936 (November 19, 2001).

² Id. at 57937.

³ See Letter from CMN to the Department regarding Pure Magnesium in Granular Form From the People's Public of China Request for Changed Circumstances Review (June 28, 2010).

Scope of the Order

The scope of this order excludes pure magnesium that is already covered by an existing order ⁴ on pure magnesium in ingot form, and currently classifiable under item numbers 8104.11.00 and 8104.19.00 of the Harmonized Tariff Schedule of the United States (“HTSUS”).

⁴ See Notice of Antidumping Duty Orders: Pure Magnesium From the People's Republic of China, the Russian Federation and Ukraine; Notice of Amended Final Determination of Sales at Less Than Fair Value: Antidumping Duty Investigation of Pure Magnesium From the Russian Federation, 60 FR 25691 (May 12, 1995).

The scope of this order includes imports of pure magnesium products, regardless of chemistry, including, without limitation, raspings, granules, turnings, chips, powder, and briquettes, except as noted above.

Pure magnesium includes: (1) Products that contain at least 99.95 percent primary magnesium, by weight (generally referred to as “ultra-pure” magnesium); (2) products that contain less than 99.95 percent but not less than 99.8 percent primary magnesium, by weight (generally referred to as “pure” magnesium); (3) chemical combinations of pure magnesium and other material(s) in which the pure magnesium content is 50 percent or greater, but less than 99.8 percent, by weight, that do not conform to an “ASTM Specification for Magnesium Alloy”⁵ (generally referred to as “off-specification pure” magnesium); and (4) physical mixtures of pure magnesium and other material(s) in which the pure magnesium content is 50 percent or greater, but less than 99.8 percent, by weight. Excluded from this order are mixtures containing 90 percent or less pure magnesium by weight and one or more of certain non-magnesium granular materials to make magnesium-based reagent mixtures. The non-magnesium granular materials of which the Department is aware used to make such excluded reagents are: lime, calcium metal, calcium silicon, calcium carbide, calcium carbonate, carbon, slag coagulants, fluorspar, nephaline syenite, feldspar, aluminum, alumina (Al2O3), calcium aluminate, soda ash, hydrocarbons, graphite, coke, silicon, rare earth metals/mischmetal, cryolite, silica/fly ash, magnesium oxide, periclase, ferroalloys, dolomitic lime, and colemanite. A party importing a magnesium-based reagent which includes one or more materials not on this list is required to seek a scope clarification from the Department before such a mixture may be imported free of antidumping duties.

⁵ The meaning of this term is the same as that used by the American Society for Testing and Materials in its Annual Book of ASTM Standards: Volume 01.02 Aluminum and Magnesium Alloys.

The merchandise subject to this order is currently classifiable under item 8104.30.00 of the HTSUS. Although the HTSUS subheading is provided for convenience and customs purposes, our written description of the scope of this order is dispositive.

Initiation of Changed Circumstances Review

Pursuant to section 751(b)(1) of the Tariff Act of 1930, as amended (“Act”), the Department will conduct a changed circumstances review upon receipt of information concerning, or a request from, an interested party for a review of an antidumping duty order which shows changed circumstances sufficient to warrant a review of the order.

In accordance with 19 CFR 351.216(d), the Department has determined that the information submitted by CMN constitutes sufficient evidence to initiate a changed circumstances review. In an antidumping duty changed circumstances review involving a successor-in-interest determination, the Department typically examines several factors including, but not limited to, changes in: (1) management; (2) production facilities; (3) supplier relationships; and (4) customer base.⁶ Although no single factor will necessarily provide a dispositive indication that the requestor is the successor-in-interest to the predecessor company, generally, the Department will consider one company to be a successor-in-interest to another company if its resulting operation is essentially similar to that of its predecessor.⁷ Thus, if the record demonstrates that, with respect to the production and sale of the subject merchandise, the new company operates as the same business entity as the predecessor company, the Department may assign the new company the cash deposit rate of its predecessor.⁸

⁶ See Certain Activated Carbon from the People's Republic of China: Notice of Initiation of Changed Circumstances Review, 74 FR 19934 (April 30, 2009).

⁷ See, e.g., Notice of Initiation of Antidumping Duty Changed Circumstances Review: Certain Forged Stainless Steel Flanges from India, 71 FR 327 (January 4, 2006).

⁸ See Notice of Final Results of Changed Circumstances Antidumping Duty Administrative Review: Polychloroprene Rubber from Japan, 67 FR 58 (January 2, 2002); see also Fresh and Chilled Atlantic Salmon from Norway; Final Results of Changed Circumstances Antidumping Duty Administrative Review, 64 FR 9979 (March 1, 1999).

Based on the information provided in its submission, CMN has provided sufficient evidence to initiate a review to determine whether it is the successor-in-interest to Minmetals/CNNMIT. Therefore, pursuant to section 751(b)(1) of the Act and 19 CFR 351.216(d), we are initiating a changed circumstances review. Although CMN submitted documentation related to its business scope and some limited information and documentation regarding its supplier that the Department considers in its successor-in-interest analysis, it did not provide complete supporting documentation or conclusive evidence for the four factors listed above. Accordingly, the Department has determined that it is not expediting this action by combining the preliminary results of review with this notice of initiation.⁹

⁹ See 19 CFR 351.221(c)(3)(ii); see also Notice of Initiation of Antidumping Duty Changed Circumstances Review: Certain Pasta From Turkey, 74 FR 681 (January 7, 2009).

The Department will issue questionnaires requesting additional information for the review and will publish in the Federal Register a notice of the preliminary results of the antidumping duty changed circumstances review, in accordance with 19 CFR 351.221(b)(2) and (4), and 19 CFR 351.221(c)(3)(i). That notice will set forth the factual and legal conclusions upon which our preliminary results are based and a description of any action proposed. Pursuant to 19 CFR 351.221(b)(4)(ii), interested parties will have an opportunity to comment on the preliminary results of review. In accordance with 19 CFR 351.216(e), the Department will issue the final results of its antidumping duty changed circumstances review not later than 270 days after the date on which the review is initiated.

This notice is published in accordance with sections 751(b)(1) and 777(i)(1) of the Act and 19 CFR 351.216.

Dated: August 11, 2010.
Edward C. Yang,
Acting Deputy Assistant Sectary for Antidumping and Countervailing Duty Operations.

[FR Doc. 2010-20494 Filed 8-17-10; 8:45 am]

BILLING CODE 3510-DS-S